ENVIRONMENTAL PROTECTION AGENCY

[EPA-HQ-OPP-2015-0086; FRL-9925-03]

EQI and POM SFIREG; Notice of Public Meeting

AGENCY: Environmental Protection Agency.

ACTION: Notice.

SUMMARY: The Association of American Pesticide Control Officials (AAPCO)/State FIFRA Issues Research and Evaluation Group (SFIREG), Joint EQI and POM Committee will hold a 2-day meeting, beginning on April 13, 2015 and ending April 14, 2015. This notice announces the location and times for the meeting and sets forth the tentative agenda topics.

DATES: The meeting will be held on Monday, April 13, 2015 from 8 a.m. to 5 p.m. and 8:30 a.m. to 3 p.m. on Tuesday April 14, 2015.

To request accommodation of a disability you should please contact the person listed in this notice under FOR FURTHER INFORMATON CONTACT. Please contact EPA at least 10 days prior to the meeting, to give EPA as much time as possible to process your request

ADDRESSES: The meeting will be held at EPA, One Potomac Yard (South Bldg.) 2777 Crystal Dr., Arlington VA. 1st Floor South Conference Room.

FOR FURTHER INFORMATION CONTACT: Ron Kendall, Field and External Affairs Division (7506P), Office of Pesticide Programs, Environmental Protection Agency, 1200 Pennsylvania Ave. NW., Washington, DC 20460-0001; telephone number: (703) 305-5561; fax number: (703) 305-5884; email address: kendall.ron@epa.gov. or Amy Bamber, SFIREG Executive Secretary, at aapco-sfireg@comcast.net.

SUPPLEMENTARY INFORMATION:

I. General Information

A. Does this action apply to me?

You may be potentially affected by this action if you are interested in pesticide regulation issues affecting States and any discussion between EPA and SFIREG on FIFRA field implementation issues related to human health, environmental exposure to pesticides, and insight into EPA's decision-making process. You are invited and encouraged to attend the meetings and participate as appropriate. Potentially affected entities may include, but are not limited to, persons who are or may be required to conduct testing of chemical substances under the Federal Food, Drug and Cosmetics Act (FFDCA), or the Federal Insecticide, Fungicide, and Rodenticide Act (FIFRA) and those who sell, distribute or use pesticides, as well as any non-government organization. If you have any questions regarding the applicability of this action to a particular entity please consult the person in this notice listed under FOR FURTHER INFORMATION CONTACT.

B. How can I get copies of this document and other related information?

The docket for this action, identified by docket identification (ID) number EPA-HQ-OPP-2015-0086, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Tentative Agenda Topics

1. OPP/OECA program updates.

2. Emergence of Unmanned Aerial Vehicles (UVA) for agricultural applications.

3. State updates on environmental quality issues.

4. Present results of the SFIREG Pesticides of Interest Tracking System (POINTS) evaluation.

5. Aggregation of National Endangered Species Act (ESA) data by the FIFRA Endangered Species Task Force.

6. States use of EPA developed benchmarks for pesticides in water.

7. State managed pollinator protection plan measures.

8. Endocrine Disruptor Screening Program.

9. Design for the Environment (DfE) survey results.

10. Oregon neonicotinoid ban.

11. Drift Reduction Technology (DRT) Program and the Spray Drift PR Notice.

12. Respirator label language in the label review manual.

III. How can I request to participate in this meeting?

This meeting is open for the public to attend. You may attend the meeting without further notification.

Authority: 7 U.S.C. 136 et seq.

Dated: March 25, 2015.
Patricia L. Parrott,
Acting Director, Field and External Affairs Division, Office of Pesticide Protection.

[FR Doc. 2015-07494 Filed 3-31-15; 8:45 am]

BILLING CODE 6560-50-P